SOCIAL SECURITY ADMINISTRATION

[Docket No. SSA 2017-0063]

Privacy Act of 1974; Matching Program

AGENCY: Social Security Administration (SSA).

ACTION: Notice of a new matching program.

SUMMARY: In accordance with the provisions of the Privacy Act, as amended, this notice announces a new matching program with the Office of Personnel Management (OPM).

This matching agreement sets forth the terms, conditions, and safeguards under which OPM will provide SSA with civil service benefit and payment data. This disclosure will provide SSA with information necessary to verify an individual's self-certification of eligibility for the Extra Help with Medicare Prescription Drug Plan Costs program (Extra Help). It will also enable SSA to identify individuals who may qualify for Extra Help as part of its Medicare outreach efforts.

DATES: The deadline to submit comments on the proposed matching program is 30 days from the date of publication of this notice in the Federal Register. The matching program will be applicable on October 1, 2018, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

Mary Zimmerman,
Acting Executive Director, Office of Privacy and Disclosure, Office of the General Counsel.

Participating Agencies: SSA and OPM.

Authority for Conducting the Matching Program: The legal authority for SSA to conduct this matching is sections 1144(a)(1) and (b)(1) and 1860D-14(a)(3) of the Social Security Act (Act) (42 U.S.C. 1320b-14(a)(1) and (b)(1) and 1395w-114(a)(3)). Pursuant to these sections, SSA must determine whether a Social Security Part D eligible individual is a subsidy-eligible individual.

Purpose(s): The purpose of this matching program is to set forth the terms, conditions, and safeguards under which OPM will disclose to SSA civil service benefit and payment data for verifying an individual's self-certification of eligibility for the Prescription Drug Plan Costs program (Extra Help). It will also enable SSA to identify individuals who may qualify for Extra Help as part of its Medicare outreach efforts.

Categories of Individuals: The individuals whose information is involved in this matching program are individuals who self-certify their eligibility for the Extra Help program.

Categories of Records: OPM's data file will consist of approximately 75,000 records of updated payment information for new civil service annuitants and annuitants whose civil service annuity has changed. SSA's comparison file consists of approximately 91 million records from the Medicare Database file. The number of people who apply for Extra Help determines in part the number of records matched.

OPM will provide SSA with electronic files containing civil service benefit and payment data for individuals who apply for the Extra Help program. The file includes:

a. Payee Name and Date of Birth,

b. Payee Social Security number,

c. Payee Civil Service Claim Number, and

d. Amount of current gross civil service benefits.

System(s) of Records: OPM will provide SSA with electronic files containing civil service benefit and payment data from the OPM system of records published as OPM/Central-1 (Civil Service and Insurance Records), on October 8, 1999 (64 FR 54930), as amended on March 20, 2008 (73 FR 15013).

SSA will match OPM data with its system of records 60-0321, Medicare Database file, last fully published at 71 FR 42159 (July 25, 2006), and amended at 72 FR 69723 (December 10, 2007).

[FR Doc. 2019-01693 Filed 2-7-19; 8:45 am]

BILLING CODE 4191-02-P